DEPARTMENT OF HEALTH AND HUMAN SERVICES

Centers for Disease Control and Prevention

Disease, Disability, and Injury Prevention and Control Special Emphasis Panel (SEP)—SIP19-004, Cancer Prevention and Control Research Network Coordinating Center and SIP19-005, Cancer Prevention and Control Research Network Collaborating Center; Amended Notice of Meeting

Notice is hereby given of a change in the meeting of the Disease, Disability, and Injury Prevention and Control Special Emphasis Panel (SEP)—SIP19-004, Cancer Prevention and Control Research Network Coordinating Center and SIP19-005, Cancer Prevention and Control Research Network Collaborating Center; April 30, 2019 and May 1, 2019; 10:00 a.m.-6:30 p.m., EDT which was published in the Federal Register on Wednesday, February 13, 2019, Volume 84, Number 30, pages 3785.

The meeting is being amended to read as follows: Meeting date April 30, 2019. The meeting is closed to the public.

FOR FURTHER INFORMATION CONTACT: Jaya Raman, Ph.D., Scientific Review Officer, CDC, 4770 Buford Highway, Mailstop F80, Atlanta, Georgia 30341, Telephone: (770) 488-6511, kva5@cdc.gov.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-07062 Filed 4-9-19; 8:45 am]

BILLING CODE 4163-18-P